DEPARTMENT OF AGRICULTURE

Forest Service

North Central Idaho Resource Advisory Committee

AGENCY: Forest Service, USDA.

ACTION: Notice of Virtual meeting.

SUMMARY: The North Central Idaho Resource Advisory Committee (RAC) will conduct virtual attendance only meetingss. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://www.fs.usda.gov/main/nezperceclearwater/workingtogether/advisorycommittees.

DATES: The virtual attendance only meetings will be held on Monday, April 19, 2021 from 1-5 p.m., Friday, April 23, 2021 from 1-5 p.m. and Monday, April 26, 2021 from 2-5 p.m., Mountain Standard Time.

All RAC meetings are subject to cancellation. For status of the meetings prior to attendance, please contact the person listed under FOR FURTHER INFORMATION CONTACT.

ADDRESSES: The meetings will be held virtually via telephone and/or video conference.

Written comments may be submitted as described under SUPPLEMENTARY INFORMATION. All comments, including names and addresses when provided, are placed in the record and are available for public inspection and copying. The public may inspect comments received at the Nez Perce-Clearwater National Forest, Grangeville office. Please call ahead at 208-983-8917 to facilitate entry into the building.

FOR FURTHER INFORMATION CONTACT: Lisa Canaday, RAC Coordinator, by phone at 208-983-8917 or via email at lisa.canaday@usda.gov.

Individuals who use telecommunication devices for the hearing-impaired (TDD) may call the Federal Information Relay Service (FIRS) at 1-800-877-8339 between 8:00 a.m. and 8:00 p.m., Eastern Standard Time, Monday through Friday.

SUPPLEMENTARY INFORMATION: The purpose of the meetings are to:

1. Present project proposals: and

2. Discuss, recommend, and approve new Title II projects;

The meetings will be virtual-only meetings. The agendas will include time for people to make oral statements of three minutes or less. Individuals wishing to make an oral statement at any of the meetings should request in writing by Friday, April 9, 2021, to be scheduled on the agenda for that particular meeting. Anyone who would like to bring related matters to the attention of the committee may file written statements with the committee staff before or after the meetings. Written comments and requests for time for oral comments must be sent to Lisa Canaday, RAC Coordinator, 104 Airport Road, Grangeville, Idaho 83530; by email to lisa.canaday@usda.gov, or via facsimile to 208-983-4098.

Meeting Accommodations: If you are a person requiring reasonable accommodation, please make requests in advance for sign language interpreting, assistive listening devices, or other reasonable accommodation. For access to the proceedings, please contact the person listed in the section titled FOR FURTHER INFORMATION CONTACT. All reasonable accommodation requests are managed on a case-by-case basis.

Dated: March 12, 2021.
Cikena Reid,
USDA Committee Management Officer.

[FR Doc. 2021-05517 Filed 3-16-21; 8:45 am]

BILLING CODE 3411-15-P